DEPARTMENT OF ENERGY

Federal Energy Regulatory Commission

Combined Notice of Filings #3

Take notice that the Commission received the following electric rate filings:

Docket Numbers: ER10-1790-004, ER10-2596-001, ER10-2597-001.

Applicants: BP Energy Company, Fowler Ridge II Wind Farm LLC, Fowler Ridge III Wind Farm LLC.

Description: Updated Market Power Analysis for NE Region.

Filed Date: 06/30/2011.

Accession Number: 20110630-5273.

Comment Date: 5 p.m. Eastern Time on Monday, August 29, 2011.

Docket Numbers: ER10-1852-001, ER10-1842-001, ER10-1971-001.

Applicants: Florida Power & Light Company.

Description: NextEra Energy Companies' Triennial Market Power Update for the Southeast Region.

Filed Date: 06/30/2011.

Accession Number: 20110630-5274.

Comment Date: 5 p.m. Eastern Time on Monday, August 29, 2011.

Docket Numbers: ER10-2480-001.

Applicants: Berkshire Power Company, LLC.

Description: Market Power Update of Berkshire Power Company, LLC.

Filed Date: 06/30/2011.

Accession Number: 20110630-5289.

Comment Date: 5 p.m. Eastern Time on Monday, August 29, 2011.

Docket Numbers: ER10-2633-006, ER10-2718-006, ER10-2719-006, ER10-2717-006.

Applicants: Cogen Technologies Linden Venture, L.P., EFS Parlin Holdings, LLC, Birchwood Power Partners, L.P., East Coast Power Linden Holding, L.L.C.

Description: Triennial Market Power Analysis of Birchwood Power Partners, L.P., et al.

Filed Date: 06/29/2011.

Accession Number: 20110629-5186.

Comment Date: 5 p.m. Eastern Time on Monday, August 29, 2011.

Docket Numbers: ER10-2727-002, ER10-2729-003, ER11-3898-001, ER11-3900-001, ER11-3899-001, ER11-3901-001, ER11-3903-001, ER10-2728-003, ER11-3902-001, ER11-3909-001, ER10-2687-002, ER10-1478-002, ER11-3908-001, ER11-3907-001, ER11-3906-001, ER10-2688-004, ER10-2689-004.

Applicants: Allegheny Energy Supply Company, LLC.

Description: Change in Status Resulting from Transfer of American Transmission Systems, Inc. into PJM Interconnection, LLC Filed by FirstEnergy Service Company.

Filed Date: 06/30/2011.

Accession Number: 20110630-5279.

Comment Date: 5 p.m. Eastern Time on Thursday, July 21, 2011.

Docket Numbers: ER10-2794-002, ER10-2849-001, ER11-2028-002, ER11-3642-002.

Applicants: EDF Trading North America, LLC, EDF Industrial Power Services (IL), LLC, EDF Industrial Power Services (NY), LLC, Tanner Street Generation, LLC.

Description: EDF Trading North America, LLC; EDF Industrial Power Services (NY); EDF Industrial Power Services (IL); and Tanner Street Triennial MBR Update.

Filed Date: 06/30/2011.

Accession Number: 20110630-5264.

Comment Date: 5 p.m. Eastern Time on Monday, August 29, 2011.

Docket Numbers: ER10-2959-001, ER10-2961-001, ER10-2934-001, ER10-2950-001.

Applicants: Chambers Cogeneration, Limited Partnership, Edgecombe Genco, LLC, Logan Generating Company, L.P., Spruance Genco, LLC.

Description: Updated Market Power Analysis for the Northeast Region of Chambers Cogeneration, Limited Partnership, et al.

Filed Date: 06/30/2011.

Accession Number: 20110630-5257.

Comment Date: 5 p.m. Eastern Time on Monday, August 29, 2011.

Docket Numbers: ER10-3099-001.

Applicants: RC Cape May Holdings, LLC.

Description: RC Cape May Holdings, LLC's Updated Market Power Analysis.

Filed Date: 06/30/2011.

Accession Number: 20110630-5157.

Comment Date: 5 p.m. Eastern Time on Monday, August 29, 2011.

Docket Numbers: ER10-3142-001, ER10-3145-001, ER10-3147-001, ER10-3148-001, ER10-3114-001, ER10-3116-001, ER10-3118-001, ER10-3120-001, ER10-3121-001, ER11-2036-001, ER10-3126-001, ER10-3128-001, ER10-3131-001, ER10-1800-001, ER10-3136-001, ER11-2701-002.

Applicants: Mountain View Power Partners, LLC, Indianapolis Power & Light Company, AES Eastern Energy, LP, AES Energy Storage, LLC, AES Alamitos, LLC, AES Redondo Beach, L.L.C., Condon Wind Power, LLC, AES Huntington Beach, L.L.C., AES Armenia Mountain Wind, LLC, AES Creative Resources, L.P., AES ES WESTOVER, LLC, AES Ironwood, L.L.C., AES Red Oak, L.L.C., AES Laurel Mountain, LLC, AEE2, L.L.C., Mountain View Power Partners IV, LLC.

Description: AES MBR Affiliates Triennial Market Power Analysis for the Northeast Region.

Filed Date: 06/30/2011.

Accession Number: 20110630-5284.

Comment Date: 5 p.m. Eastern Time on Monday, August 29, 2011.

Docket Numbers: ER11-2363-001, ER11-2364-001.

Applicants: Sandy Ridge Wind, LLC, Chestnut Flats Wind, LLC.

Description: Updated Market Power Analysis for the Northeast Region of Chestnut Flats Wind, LLC and Sandy Ridge Wind, LLC.

Filed Date: 06/30/2011.

Accession Number: 20110630-5159.

Comment Date: 5 p.m. Eastern Time on Monday, August 29, 2011.

Docket Numbers: ER11-3859-001, ER11-3863-001, ER11-3861-001, ER11-3864-001, ER11-3866-001, ER11-3867-001, ER11-3857-001.

Applicants: Milford Power Company, LLC, MASSPOWER, Lake Road Generating Company, L.P., EquiPower Resources Management, LLC, Dighton Power, LLC, Empire Generating Co, LLC, ECP Energy I, LLC.

Description: Updated Market Power Analysis of ECP MBR Sellers.

Filed Date: 06/30/2011.

Accession Number: 20110630-5293.

Comment Date: 5 p.m. Eastern Time on Monday, August 29, 2011.

Docket Numbers: ER11-3976-000.

Applicants: Upper Peninsula Power Company.

Description: Notice of Cancellation of Service Agreement 14U by Upper Peninsula Power Company.

Filed Date: 06/30/2011.

Accession Number: 20110630-5267.

Comment Date: 5 p.m. Eastern Time on Thursday, July 21, 2011.

Docket Numbers: ER11-3977-000.

Applicants: The United Illuminating Company.

Description: The United Illuminating Company Request for Incentive ROE for CT NEEWS Projects.

Filed Date: 06/30/2011.

Accession Number: 20110630-5271.

Comment Date: 5 p.m. Eastern Time on Thursday, July 21, 2011.

Take notice that the Commission received the following open access transmission tariff filings:

Docket Numbers: OA11-9-000.

Applicants: TransCanada Maine Wind Development Inc.

Description: TransCanada Maine Wind Development Inc. Application for a waiver of the Commission's OATT, OASIS, and Standards of Conduct requirements.

Filed Date: 06/30/2011.

Accession Number: 20110630-5259.

Comment Date: 5 p.m. Eastern Time on Thursday, July 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov or call (866) 208-3676 (toll free). For TTY, call (202) 502-8659.

Dated: July 1, 2011.
Nathaniel J. Davis, Sr.,
Deputy Secretary.

[FR Doc. 2011-17834 Filed 7-14-11; 8:45 am]

BILLING CODE 6717-01-P